DEPARTMENT OF TRANSPORTATION

Federal Aviation Administration

14 CFR Part 97

[Docket No. 30640; Amdt. No. 3298]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective December 10, 2008. The compliance date for each SIAP, associated Takeoff Minimums, and ODP is specified in the amendatory provisions.

The incorporation by reference of certain publications listed in the regulations is approved by the Director of the Federal Register as of December 10, 2008.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPs. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimum and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPs, an effective date at least 30 days after publication is provided.

Further, the SIAPs and Takeoff Minimums and ODPs contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under DOT Regulatory Order 12866; (2) is not a “significant rule” under DOT Regulatory Policies and Procedures (44 FR 11034; February 26, 1979; and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on November 28, 2008.
John M. Allen,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 15 Jan 2009

Toksook Bay, AK, Toksook Bay, RNAV (GPS) RWY 34, Amdt 1

Toksook Bay, AK, Toksook Bay, Takeoff Minimums and Obstacle DP, Amdt 1

Troy, AL, Troy Muni, Radar-1, Amdt 8

Fayetteville, AR, Drake Field, Takeoff Minimums and Obstacle DP, Amdt 5

Arcata/Eureka, CA, Arcata, VOR RWY 14, Amdt 7B, CANCELLED

Arcata/Eureka, CA, Arcata, VOR/DME RWY 14, Orig

Atwater, CA, Castle, GPS RWY 13, Orig-A, CANCELLED

Atwater, CA, Castle, GPS RWY 31, Orig-A, CANCELLED

Merced, CA, Castle, ILS OR LOC/DME RWY 31, Amdt 2

Merced, CA, Castle, RNAV (GPS) RWY 13, Orig

Merced, CA, Castle, RNAV (GPS) RWY 31, Orig

Merced, CA, Castle, Takeoff Minimums and Obstacle DP, Amdt 1

Merced, CA, Castle, VOR/DME RWY 31, Amdt 1

San Diego, CA, Montgomery Field, ILS OR LOC/DME RWY 28R, Amdt 3

San Diego, CA, Montgomery Field, NDB OR GPS RWY 28R, Amdt 1C, CANCELLED

San Diego, CA, Montgomery Field, RNAV (GPS) RWY 28R, Orig

Santa Rosa, CA, Charles M. Schulz-Sonoma County, GPS RWY 14, Orig, CANCELLED

Santa Rosa, CA, Charles M. Schulz-Sonoma County, GPS RWY 32, Orig, CANCELLED

Santa Rosa, CA, Charles M. Schulz-Sonoma County, ILS OR LOC RWY 32, Amdt 17

Santa Rosa, CA, Charles M. Schulz-Sonoma County, RNAV (GPS) RWY 14, Orig

Santa Rosa, CA, Charles M. Schulz-Sonoma County, RNAV (GPS) RWY 32, Orig

Upland, CA, Cable, VOR RWY 6, Amdt 7A, CANCELLED

Upland, CA, Cable, VOR-A, Orig

Victorville, CA, Southern California Logistics, GPS RWY 17, Orig-B, CANCELLED

Victorville, CA, Southern California Logistics, ILS OR LOC RWY 17, Amdt 2

Victorville, CA, Southern California Logistics, RNAV (GPS) RWY 17, Orig

Victorville, CA, Southern California Logistics, VOR/DME RWY 17, Amdt 1

Watsonville, CA, Watsonville Muni, LOC RWY 2, Amdt 3

Keystone Heights, FL, Keystone Airpark, GPS RWY 4, Orig, CANCELLED

Keystone Heights, FL, Keystone Airpark, RNAV (GPS) RWY 5, Orig

Keystone Heights, FL, Keystone Airpark, Takeoff Minimums and Obstacle DP, Orig

Keystone Heights, FL, Keystone Airpark, VOR/DME RWY 5, Amdt 1

Orlando, FL, Orlando Sanford Intl, ILS OR LOC RWY 9R, Orig.

Lafayette, GA, Barwick Lafayette, RNAV (GPS) RWY 2, Amdt 1

Lafayette, GA, Barwick Lafayette, RNAV (GPS) RWY 20, Amdt 1

Lafayette, GA, Barwick Lafayette, Takeoff Minimums and Obstacle DP, Amdt 1

Toccoa, GA, Toccoa Rg Letourneau Field, VOR RWY 20, Amdt 13

Toccoa, GA, Toccoa Rg Letourneau Field, VOR/DME RWY 2, Amdt 2

Charles City, IA, Northeast Iowa Rgnl, GPS RWY 30, Orig, CANCELLED

Charles City, IA, Northeast Iowa Rgnl, RNAV (GPS) RWY 12, Orig

Charles City, IA, Northeast Iowa Rgnl, RNAV (GPS) RWY 30, Orig

Greensboro, NC, Piedmont Triad Intl, Takeoff Minimums and Obstacle DP, Orig

Roxboro, NC, Person County, RNAV (GPS) RWY 24, Orig

Washington, NC, Warren Field, RNAV (GPS) RWY 5, Amdt 1

Washington, NC, Warren Field, RNAV (GPS) RWY 17, Amdt 1

Washington, NC, Warren Field, RNAV (GPS) RWY 23, Amdt 1

Washington, NC, Warren Field, RNAV (GPS) RWY 35, Amdt 1

Broken Bow, NE, Broken Bow Muni, NDB RWY 14, Amdt 8, CANCELLED

Batavia, NY, Genesee County, ILS OR LOC RWY 28, Amdt 6

Batavia, NY, Genesee County, RNAV (GPS) RWY 28, Orig

Batavia, NY, Genesee County, VOR/DME-A, Amdt 5B

Cleveland, OH, Cleveland-Hopkins Intl, ILS PRM RWY 24R (Simultaneous Close Parallel), Orig

Cleveland, OH, Cleveland-Hopkins Intl, LDA/DME RWY 24L, Amdt 1

Cleveland, OH, Cleveland-Hopkins Intl, LDA PRM RWY 6R (Simultaneous Close Parallel), Amdt 1

Cleveland, OH, Cleveland-Hopkins Intl, LDA PRM RWY 24L (Simultaneous Close Parallel), Orig

Norman, OK, University of Oklahoma Westheimer, RNAV (GPS) RWY 3, Amdt 1

Oklahoma City, OK, Will Rogers World, RNAV (GPS) RWY 17R, Amdt 2A

Sparta, TN, Upper Cumberland Rgnl, RNAV (GPS) RWY 4, Orig

Sparta, TN, Upper Cumberland Rgnl, RNAV (GPS) RWY 22, Orig

Sparta, TN, Upper Cumberland Rgnl, Takeoff Minimums and Obstacle DP, Orig

Abilene, TX, Abilene Rgnl, RNAV (GPS) RWY 22, Orig

Abilene, TX, Abilene Rgnl, VOR RWY 22, Amdt 4

Childress, TX, Childress Muni, VOR RWY 35, Amdt 10

Midland, TX, Midland Intl, RNAV (GPS) RWY 10, Amdt 1

Midland, TX, Midland Intl, Takeoff Minimums and Obstacle DP, Orig

Port Aransas, TX, Mustang Beach, Takeoff Minimums and Obstacle DP, Amdt 1

Spearman, TX, Spearman Muni, RNAV (GPS) RWY 2, Orig

Spearman, TX, Spearman Muni, RNAV (GPS) RWY 20, Orig

Spearman, TX, Spearman Muni, Takeoff Minimums and Obstacle DP, Orig

Spearman, TX, Spearman Muni, VOR/DME RWY 2, Amdt 1

Victoria, TX, Victoria Rgnl, ILS OR LOC RWY 12L, Amdt 10

Victoria, TX, Victoria Rgnl, RNAV (GPS) RWY 12L, Orig

Victoria, TX, Victoria Rgnl, RNAV (GPS) RWY 30R, Orig

Victoria, TX, Victoria Rgnl, VOR RWY 12L, Amdt 16

Victoria, TX, Victoria Rgnl, VOR/DME RWY 30R, Amdt 6

Tangier, VA, Tangier Island, RNAV (GPS)-B, Orig

Tangier, VA, Tangier Island, Takeoff Minimums and Obstacle DP, Orig

Tangier, VA, Tangier Island, VOR/DME-A, Orig

Tangier, VA, Tangier Island, VOR/DME OR GPS RWY 2, Orig-C, CANCELLED

[FR Doc. E8-29006 Filed 12-9-08; 8:45 am]

BILLING CODE 4910-13-P